DEPARTMENT OF THE INTERIOR

Minerals Management Service

Agency Information Collection Activities: Submitted for Office of Management and Budget (OMB) Review; Comment Request

AGENCY: Minerals Management Service (MMS), Interior.

ACTION: Notice of extension of an information collection (1010-0149).

SUMMARY: To comply with the Paperwork Reduction Act of 1995 (PRA), we are notifying the public that we have submitted to OMB an information collection request (ICR) to renew approval of the paperwork requirements in the regulations under 30 CFR 250, subpart I, Platforms and Structures. This notice also provides the public a second opportunity to comment on the paperwork burden of these regulatory requirements.

DATES: Submit written comments by March 28, 2008.

ADDRESSES: You may submit comments either by fax (202) 395-6566 or e-mail (OIRA_DOCKET@omb.eop.gov) directly to the Office of Information and Regulatory Affairs, OMB, Attention: Desk Officer for the Department of the Interior (1010-0149). Mail or hand carry a copy of your comments to the Department of the Interior/Minerals Management Service, Attention: Cheryl Blundon, Mail Stop 4024, 381 Elden Street, Herndon, Virginia 20170-4817. If you wish to e-mail your comments to MMS, the address is: rules.comments@mms.gov. Reference Information Collection 1010-0149 in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR 250, subpart I, Platforms and Structures.

OMB Control Number: 1010-0149.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 43 U.S.C. 1356 requires the issuance of “* * * regulations which require that any vessel, rig, platform, or other vehicle or structure * * * (2) which is used for activities pursuant to this subchapter, comply * * * with such minimum standards of design, construction, alteration, and repair as the Secretary * * * establishes * * *” Section 43 U.S.C. 1332(6) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to the Minerals Management Service (MMS) to ensure that operations in the OCS will meet statutory requirements; provide for safety and protection of the environment; and result in diligent exploration, development, and production of OCS leases. This information collection request addresses the regulations at 30 CFR part 250, subpart I, Platforms and Structures, and the associated supplementary notices to lessees and operators (NTLs) intended to provide clarification, description, or explanation of these regulations.

Responses are mandatory or are required to obtain or retain a benefit. No questions of a “sensitive” nature are asked. The MMS will protect proprietary information according to the Freedom of Information Act (5 U.S.C. 552) and its implementing regulations (43 CFR 2), 30 CFR 250.197 (Data and information to be made available to the public or for limited inspection), and 30 CFR part 252 (OCS Oil and Gas Information Program).

The MMS OCS Regions use the information submitted under subpart I to determine the structural integrity of all offshore structures and ensure that such integrity will be maintained throughout the useful life of these structures. We use the information to ascertain, on a case-by-case basis, that the platforms and structures are structurally sound and safe for their intended use to ensure safety of personnel and pollution prevention. The information is also necessary to assure that abandonment and site clearance are properly performed. More specifically, we use the information to:

• Review data concerning damage to a platform to assess the adequacy of proposed repairs.

• Review plans for platform construction (construction is divided into three phases—design, fabrication, and installation) to ensure the structural integrity of the platform.

• Review verification plans and reports for unique platforms to ensure that all nonstandard situations are given proper consideration during the design, fabrication, and installation phases of platform construction.

• Review platform design, fabrication, and installation records to ensure that the platform is constructed according to approved plans.

• Review inspection reports to ensure that platform integrity is maintained for the life of the platform.

Frequency: The frequency varies by section, but is generally “on occasion” or annual.

Estimated Number and Description of Respondents: Approximately 130 Federal OCS oil and gas or sulphur lessees.

Estimated “Hour” Burden: The estimated annual “hour” burden for this information collection is a total of 60,260 hours. The following chart details the individual components and estimated hour burdens. In calculating the burdens, we assumed that respondents perform certain requirements in the normal course of their activities. We consider these to be usual and customary and took that into account in estimating the burden.

Burden Breakdown
Citation 30 CFR 250 Subpart I and related NTLs | Reporting and/or recordkeeping requirement | Fee(s): Hour burden | Fee(s): Average No. of annual reponses | Fee(s): Annual burden hours
General Requirements for Platforms
900(b), (c), (e); 901(b), (c); 902; 903; 905; 906; 909; 910(c), (d); 911(c), (f); 912; 913 | Submit application, along with reports/surveys and relevant data, to install new platform or floating production facility or conversion of existing platform for new purpose or significant changes to approved applications, including use of alternative codes, rules, or standards; and Platform Verification Program (PVP) plan for design, fabrication and installation of new, fixed, bottom-founded, pile-supported, or concrete-gravity platforms and new floating platforms. Consult as required with MMS and/or USCG. Re/Submit application for major modification(s)/repairs to any platform and related requirements | 60 | 304 applications | 18,240
|  | $19,900 × 5 PVP = $99,500
|  | $2,850 × 44 fixed structure = $125,400
|  | $1,450 × 85 Caisson/Well Protector = $123,250
|  | $3,400 × 170 modifications = $578,000
900(b)(5) | Submit application for conversion of the use of an existing mobile offshore drilling unit | 24 | 2 applications | 48
900(c) | Notify MMS within 24 hours of damage and emergency repairs and request approval of repairs | 16 | 12 notices/requests | 192
901(a)(6), (a)(7), (a)(8); NTLs | Submit CVA documentation under API RP 2RD, API RP 2SK, and API RP 2SM | 100 | 15 submissions | 1,500
901(a)(10); NTLs | Submit hazards analysis documentation under API RP 14J | 600 | 8 submissions | 4,800
903 * | Record original and relevant material test results of all primary structural materials; retain records during all stages of construction. Compile, retain, and provide location/make available to MMS for the functional life of platform, the as-built drawings, design assumptions/analyses, summary of nondestructive examination records, inspection results, and records of repair not covered elsewhere | 100 | 130 lessees | 13,000
Subtotal |  |  | 471 | 37,780
|  |  |  | $926,150
Platform Verification Program
911(d); 914 | Submit nomination and qualification statement for CVA | 16 | 5 nominations | 80
916(c) | Submit interim and final CVA reports and recommendations on design phase | 200 | 15 reports | 3,000
917(a), (c) | Submit interim and final CVA reports and recommendations on fabrication phase, including notice of fabrication procedure changes or design specification modifications | 100 | 15 reports | 1,500
918(c) | Submit interim and final CVA reports and recommendations on installation phase | 60 | 15 reports | 900
Subtotal |  |  | 50 | 5,480
Inspection, Maintenance, and Assessment of Platforms
919(a) | Develop in-service inspection plan and keep on file | 50 | 130 lessees | 6,500
919(b) | Submit annual (November 1 of each year) report on inspection of platforms or floating production facilities, including summary of testing results | 80 | 130 lessees | 10,400
Subtotal |  |  | 260 | 16,900
General Departure
900 thru 921 | General departure and alternative compliance requests not specifically covered elsewhere in Subpart I regulations | 10 | 10 requests | 100
Subtotal |  |  | 791 Responses | 60,260
|  |  |  | $926,150 Fees
* The records required to be retained are such that respondents would keep them as usual and customary business practice. The burden would be to make them available to MMS for review.

Estimated Reporting and Recordkeeping “Non-Hour Cost” Burden: We have identified four non-hour cost burdens (see Burden Breakdown). Section 250.905(k) requires four specific fees for various platform applications/installations. One fee is for installation under the Platform Verification Program; one fee is for installation of fixed structures under the Platform Approval Program; one fee is for installation of Caisson/Well Protectors; and one fee is for modifications and/or repairs. We have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 25, 2007, we published a Federal Register notice (72 FR 34717) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by March 28, 2008.

Public Availability of Comments: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: December 20, 2007.
E.P. Danenberger,
Chief, Office of Offshore Regulatory Programs.

[FR Doc. E8-3654 Filed 2-26-08; 8:45 am]

BILLING CODE 4310-MR-P